DEPARTMENT OF THE INTERIOR

Fish and Wildlife Service

[FWS-HQ-ES-2018-0004; FF09E15000-FXES111609B0000-189]

John H. Chafee Coastal Barrier Resources System; Hurricane Sandy Remapping Project for Delaware, Massachusetts, New Hampshire, and New Jersey

AGENCY: Fish and Wildlife Service, Interior.

ACTION: Notice of availability; request for comments; notice of public meetings via webcast and teleconference.

SUMMARY: The Coastal Barrier Resources Reauthorization Act of 2006 requires the Secretary of the Interior to prepare digital versions of the John H. Chafee Coastal Barrier Resources System (CBRS) maps. We, the U.S. Fish and Wildlife Service, have prepared proposed digital boundaries for the first batch of CBRS units included in the Hurricane Sandy Remapping Project. This first batch of the project includes a total of 148 CBRS units (112 existing units and 36 proposed new units) located in Delaware, Massachusetts, New Hampshire, and New Jersey. This notice announces the availability of the proposed boundaries for public review and comment, and also advises the public of upcoming public meetings that will be held via webcast and teleconference.

DATES:

Comment Period: To ensure consideration, we must receive your written comments by July 10, 2018.

Public Meetings: We will hold public meetings via webcast and teleconference on May 8, 2018, and May 9, 2018; see Virtual Public Meetings and Meeting Participation Information under SUPPLEMENTARY INFORMATION for meeting dates, times, and registration information.

Pre-Meeting Public Registration: If you are planning to participate in one of the virtual public meetings (being offered via webcast and telephone only), we request that participants register by emailing by May 1, 2018 (see Meeting Participation Information under SUPPLEMENTARY INFORMATION).

ADDRESSES: You may submit written comments by one of the following methods:

• Electronically: Go to the Federal e-Rulemaking Portal: http://www.regulations.gov. Search for FWS-HQ-ES-2018-0004, which is the docket number for this notice.

• By hard copy: Submit by U.S. mail or hand-delivery to: Public Comments Processing, Attn: Docket No. FWS-HQ-ES-2018-0004; Division of Policy, Performance, and Management Programs; U.S. Fish and Wildlife Service; 5275 Leesburg Pike, MS: BPHC; Falls Church, VA 22041-3808.

We request that you send comments by only one of the methods described above. We will post all information received on http://www.regulations.gov. If you provide personal identifying information in your comment, you may request at the top of your document that we withhold this information from public review. However, we cannot guarantee that we will be able to do so.

FOR FURTHER INFORMATION CONTACT: Katie Niemi, Coastal Barriers Coordinator, (703) 358-2071 (telephone); or CBRA@fws.gov (email).

SUPPLEMENTARY INFORMATION: The Coastal Barrier Resources Reauthorization Act of 2006 (section 4 of Pub. L. 109-226; CBRRA) requires the Secretary of the Interior (Secretary) to prepare digital versions of the John H. Chafee Coastal Barrier Resources System (CBRS) maps. We, the U.S. Fish and Wildlife Service (Service), have prepared proposed digital boundaries for the first batch of CBRS units included in the Hurricane Sandy Remapping Project. This first batch of the project includes a total of 148 CBRS units (112 existing units and 36 proposed new units) located in Delaware, Massachusetts, New Hampshire, and New Jersey. This notice announces the availability of the proposed boundaries for public review and comment, and also advises the public of upcoming public meetings that will be held via webcast and teleconference.

Background on the Coastal Barrier Resources System

Coastal barrier ecosystems are inherently dynamic systems located at the interface of land and sea. Coastal barriers and their associated aquatic habitat (wetlands and open water) provide important habitat for fish and wildlife, and serve as the mainland's first line of defense against the impacts of severe storms. With the passage of the CBRA in 1982 (16 U.S.C. 3501 et seq.), Congress recognized that certain actions and programs of the Federal Government have historically subsidized and encouraged development on storm-prone and highly dynamic coastal barriers, and the result has been the loss of natural resources; threats to human life, health, and property; and the expenditure of millions of tax dollars each year.

The CBRA established the CBRS which originally comprised 186 geographic units encompassing approximately 453,000 acres of relatively undeveloped lands and associated aquatic habitat along the Atlantic and Gulf of Mexico coasts. The CBRS was expanded by the Coastal Barrier Improvement Act of 1990 (CBIA; Pub. L. 101-591) to include additional areas along the Atlantic and Gulf of Mexico coasts, as well as areas along the coasts of the Great Lakes, the U.S. Virgin Islands, and Puerto Rico. The CBRS now comprises a total of 862 geographic units, encompassing approximately 3.5 million acres of land and associated aquatic habitat. These areas are depicted on a series of maps known as the John H. Chafee Coastal Barrier Resources System maps.

Most new Federal expenditures and financial assistance that would have the effect of encouraging development are prohibited within the CBRS. Development can still occur within the CBRS, provided that private developers or other non-Federal parties bear the full cost. In his signing statement, President Reagan stated that the CBRA “simply adopts the sensible approach that risk associated with new private development in these sensitive areas should be borne by the private sector, not underwritten by the American taxpayer.”

The CBRS includes two types of units, System Units and Otherwise Protected Areas (OPAs). System Units contain areas that were relatively undeveloped and predominantly privately owned at the time of designation, though they may also contain areas held for conservation and/or recreation. Most new Federal expenditures and financial assistance, including Federal flood insurance, are prohibited within System Units. OPAs are predominantly comprised of conservation and/or recreation areas such as national wildlife refuges, state and national parks, and local and private conservation areas, though they may also contain private areas not held for conservation and/or recreation. OPAs are denoted with a “P” at the end of the unit number. The only Federal spending prohibition within OPAs is the prohibition related to Federal flood insurance.

The Secretary, through the Service, is responsible for administering the CBRA, which includes maintaining the official maps of the CBRS, consulting with Federal agencies that propose to spend funds within the CBRS, preparing updated maps of the CBRS, and making recommendations to Congress regarding changes to the CBRS. Aside from three minor exceptions, only Congress—through legislation—can modify the maps of the CBRS to add or remove land. These exceptions, which allow the Secretary to make limited modifications to the CBRS (16 U.S.C. 3503(c)-(e)), are for: (1) Changes that have occurred to the CBRS as a result of natural forces, (2) voluntary additions to the CBRS by property owners, and (3) additions of excess Federal property to the CBRS.

When assessing potential removals from and additions to the CBRS, the Service considers a set of guiding principles and criteria which are further described in the Types of Boundary Changes section below. In cases where mapping errors are found, the Service supports changes to the maps and works with Congress and other interested parties to create comprehensively revised maps using modern digital technology.

Background on the Hurricane Sandy Remapping Project

Following Hurricane Sandy, which made landfall along the North Atlantic coast in October 2012, the Department of the Interior (Department) funded a project to modernize the maps of approximately 370 CBRS units in the nine states most affected by the storm: Connecticut, Delaware, Maryland, Massachusetts, New Hampshire, New Jersey, New York (Long Island), Rhode Island, and Virginia (comprising approximately 44 percent of the total units and 16 percent of the total acreage within the CBRS). This project makes significant progress towards fulfilling a statutory requirement (section 4 of Pub. L. 109-226) to modernize the entire set of CBRS maps. The public review for this project will be conducted in two separate batches. The first batch includes Delaware, Massachusetts, New Hampshire, and New Jersey. The second batch will include Connecticut, Maryland, New York (Long Island), Rhode Island, and Virginia.

A list of all 148 CBRS units (112 existing units and 36 proposed new units) included in this first batch is attached to this notice as Appendix A. If adopted by Congress, the revised maps produced through this project would remove areas that were previously included within the CBRS in error and add new qualifying areas to the CBRS. This map modernization effort would also provide more accurate and accessible CBRS data for planning coastal infrastructure projects, habitat conservation efforts, and flood risk mitigation measures.

Hurricane Sandy Remapping Project Methodology

Digital Conversion of the Existing Boundaries

The boundaries of the CBRS were originally hand-drawn on paper maps. The existing CBRS maps for Delaware and New Jersey underwent a digital conversion process between 2013 and 2015 (79 FR 21787 (April 17, 2014) and 80 FR 25314 (May 4, 2015), respectively), which replaced the underlying base maps with aerial imagery and updated the boundaries to a digital format to make them compatible with modern Geographic Information Systems (GIS). The existing CBRS unit boundaries for Massachusetts were digitally converted as part of this project in accordance with the methodology described in a notice the Service published in the Federal Register on August 29, 2013 (78 FR 53467), though the existing boundaries for Massachusetts do not incorporate modifications to account for natural changes, voluntary additions, and additions of excess Federal property (such changes are instead reflected in the proposed boundaries). Digital conversion was not necessary for New Hampshire because it does not have any existing CBRS units.

Data Mining and Research

The Service began conducting data mining and research for this project in January of 2015. The Service procured and assessed the quality and accuracy of the data necessary to: (1) Determine whether the existing CBRS unit boundaries appropriately follow the features they were intended to follow on-the-ground, (2) determine the level of development that was on-the-ground when the areas were originally included within the CBRS (e.g., dates of construction and density of development), (3) identify qualifying additions, and (4) evaluate unit type classifications (i.e., System Unit or OPA).

The Service reviewed historical background records of the CBRS units, reports to Congress, public laws, legislative history, testimony from Congressional hearings, Federal Register notices, current and historical CBRS maps, the 1982 and 1994 CBRS Photographic Atlases (a set of aerial photography maintained by the Service with the CBRS unit boundaries overlaid), materials submitted by interested parties and their representatives in Congress, and an assortment of other data and information.

We also obtained and assessed both geospatial and non-geospatial data from a variety of Federal sources (e.g., the Federal Emergency Management Agency, the National Oceanic and Atmospheric Administration, the U.S. Army Corps of Engineers, the U.S. Department of Agriculture, the U.S. Fish and Wildlife Service, and the U.S. Geological Survey), as well as State, local, and non-governmental sources. These data include but are not limited to current and historical aerial imagery, natural resource and natural hazard data (e.g., wetlands data, shoreline change data, and flood hazard data), land ownership and development data (e.g., property parcel data and date of construction information), and conservation and recreation area data (e.g., park and wildlife refuge parcel boundaries, conservation easement data, and parcel acquisition dates). Some of these data sets were available for download on the internet or through specific requests to the data steward, while others were reviewed online through mappers, websites, and/or databases.

The proposed boundaries are based upon the best available information that the Service was able to obtain within the data mining and research timeframe for the project. There were many challenges associated with the data mining and research process. In some cases, data was unavailable, unattainable within a reasonable time frame, incomplete, outdated, and/or in conflict with other data of the same type from a different source. Dates of construction and both present and historical land ownership information were difficult to obtain and validate for certain areas (in particular, ownership information for undeveloped wetland areas). It was also difficult in some cases to determine structure type and use (e.g., residential, commercial, or other).

Initial Stakeholder Outreach

During the data mining and research phase of the project, the Service conducted outreach with certain landowners and/or managers of coastal barrier areas that are “otherwise protected” (as defined by the CBIA), meaning within the boundaries of an area established under Federal, State, or local law, or held by a qualified organization (defined under the Internal Revenue Code (26 U.S.C. 170(h)(3)), primarily for wildlife refuge, sanctuary, recreational, or natural resource conservation purposes. Such outreach was generally not conducted with the landowners and/or managers of areas that do not meet the CBIA definition of “otherwise protected.” This includes areas zoned or regulated by State or local governments for the purpose of restricting the nature or density of development, but where such regulation does not necessarily reflect the intent of the property owners to protect the area for conservation and/or recreation in perpetuity. Examples of such areas include privately owned areas that are not held for conservation and/or recreation; local zoning categories such as dune districts, inlet hazard areas, and setback zones; and areas subject to conservation easements or leases that have limited restrictions.

Conservation/recreation area landowners and/or managers were contacted in cases where the following information was necessary to prepare the initial proposed boundaries: (1) The location of conservation and/or recreation area boundaries (primarily in cases where the CBRS unit boundary was intended to be coincident with that boundary and there was conflicting information about the parcel boundary location), (2) the acquisition date(s) of the conservation and/or recreation area, and/or (3) the CBRS unit type classification (i.e., System Unit or OPA) for a particular conservation and/or recreation area.

Given the large number of conservation and/or recreation area stakeholders within the project area and complexities associated with mapping numerous small parcels, we generally limited our initial outreach to those stakeholders that own and/or manage conservation and/or recreation areas that are greater than approximately 10 acres in size within the existing and/or proposed System Units. See the Types of Boundary Changes section below for additional information about the mapping of conservation/recreation areas within the CBRS.

The Service reached out to approximately 90 different stakeholders in Delaware, Massachusetts, and New Jersey, including but not limited to state natural resource management agencies, state parks and recreation agencies, private conservation organizations, and local governments. Some of these organizations, due to a variety of circumstances, were unable to provide input during the initial stakeholder outreach process. Additional outreach to these groups and a broader group of stakeholders (including the State of New Hampshire, which has no existing CBRS units and only one proposed new OPA) is being conducted as part of the public review process; see the Request for Comments section below for further information.

Acreage Calculations

The Service calculates the acreage of the CBRS units to help assess the areal extent of the units and to quantify proposed changes. The total acreage of a CBRS unit is comprised of fastland (land above mean high tide) and associated aquatic habitat (wetlands and open water). For the purpose of calculating acreage for this project, the wetland/fastland acreage breakdown of the units was derived from the Service's National Wetlands Inventory (NWI) data. A shoreline was delineated (as described below) to be used in conjunction with the boundaries of the unit to calculate acreage, and only areas landward of this shoreline were included in the calculation. The associated aquatic habitat acreage numbers include open water landward of the coastal barrier, but not nearshore or offshore waters seaward of the shoreline. The offshore acreage of the units is not calculated because a fixed seaward boundary for the units is generally not drawn due to the highly dynamic nature of the littoral zone.

Although acreage for offshore areas is not calculated, the entire sand sharing system on the seaward side, including the beach and nearshore area, is included within the CBRS units. The sand sharing system of coastal barriers is normally defined by the 30-foot bathymetric contour. In the Great Lakes and in large coastal embayments (e.g., Chesapeake Bay, Delaware Bay, and Narragansett Bay), the sand sharing system is more limited in extent. In these cases, the sand sharing system is defined by the 20-foot bathymetric contour or a line approximately 1 mile seaward of the shoreline, whichever is nearer the coastal barrier.

Shoreline Calculations

The Service calculates the shoreline of the units to help assess the linear extent of the CBRS and to facilitate the calculation of the acreage of the units as described above. For the purposes of this project, the Service digitized a shoreline boundary to artificially close off the units along the seaward shoreline. This shoreline boundary generally follows the wet/dry sand line along the seaward side of the unit as interpreted from the base imagery. Additionally, the shoreline boundary spans any inlets and/or other dividing water bodies within each unit. In some cases, highly convoluted shorelines were generalized. Due to the complexities of shoreline delineations, acreage numbers (rather than shoreline miles) are the most reliable way to quantify proposed changes to the CBRS for individual units.

Types of Boundary Changes

The Service applied objective mapping protocols in the preparation of proposed boundaries for the CBRS units included in this project. The Service also applied a set of guiding principles and criteria for assessing additions to and removals from the CBRS. In 1982 and 1985, the Department published guidance in the Federal Register (47 FR 35696 (August 16, 1982) and 50 FR 8698 (March 4, 1985)) for delineating CBRS unit boundaries. The Department's 1982 Undeveloped Coastal Barriers: Report to Congress, 1988 Report to Congress: Coastal Barrier Resources System and the Service's 2016 Final Report to Congress: John H. Chafee Coastal Barrier Resources System Digital Mapping Pilot Project also contain protocols, criteria, and guiding principles for CBRS mapping.

The different types of changes proposed through this project include modifications to reflect geomorphic change; alignment with geomorphic, development, and cultural features; additions to and removals from the CBRS; and modifications to CBRS boundaries in channels. Additionally, CBRS unit type classifications (and reclassifications) were determined according to a standard protocol described below.

Modifications To Reflect Geomorphic Change

The CBRA requires that at least once every 5 years the Service review the maps of the CBRS and make modifications to the boundaries of the units to account for changes caused by natural forces such as accretion and erosion (16 U.S.C. 3503(c)). This type of change can be made by the Service administratively; however, it is also incorporated into ongoing CBRS mapping efforts like this project for efficiency and cost-saving purposes. The boundaries of System Units and OPAs have been modified where appropriate to account for natural changes that have occurred since the maps were last updated.

Alignment With Geomorphic Features

CBRS boundaries are often intended to follow geomorphic features such as a shoreline or the interface between wetlands and fastlands. This applies mostly to System Units, though there are many cases where OPA boundaries follow geomorphic features. The boundaries of System Units and OPAs have been modified where appropriate to align with underlying geomorphic features.

Alignment With Development Features

CBRS boundaries are often intended to follow development features, such as the edge of a road, a bridge, or the “break-in-development” that existed on-the-ground when the area was included within the CBRS. The break-in-development is where development ended, immediately adjacent to the last structure in a cluster or row of structures, or at the property parcel boundary of the last structure. This applies mostly to System Units, though there are cases where OPA boundaries follow development features. The boundaries of System Units and OPAs have been modified where appropriate to align with development features.

Alignment With Cultural Features

CBRS boundaries are often intended to follow cultural features such as roads and political boundaries (e.g., state, county, and town boundaries) or conservation/recreation area boundaries. Both System Units and OPAs follow cultural features; however, this applies especially to OPAs, which often coincide with the boundaries of the underlying conservation and/or recreation areas (although there are exceptions). The boundaries of System Units and OPAs have been modified where appropriate to align with cultural features.

Additions to the CBRS

In carrying out this project, the Service found areas of undeveloped fastland and associated aquatic habitat that are not currently within the CBRS but are appropriate for inclusion (either as additions to existing units or as entirely new units). When assessing whether an area may be appropriate for addition to the CBRS, the Service considered the following guiding principles:

(1) Whether the area may reasonably be considered to be a coastal barrier feature, or related to a coastal barrier ecosystem (this generally includes areas that are inherently vulnerable to coastal hazards such as flooding, storm surge, wind, erosion, and sea level rise) and

(2) whether inclusion of the area within the CBRS is rationally related to the purposes of the CBRA (i.e., to minimize the loss of human life, wasteful expenditure of Federal revenues, and damage to fish, wildlife, and other natural resources).

When assessing potential additions to the CBRS, the Service also considers the following criteria:

(1) The level of development on-the-ground (i.e., whether the number of structures or complement of infrastructure on-the-ground exceed the threshold for the area to be considered undeveloped) (16 U.S.C. 3503(g)(1)) and/or

(2) in the case of certain additions to existing units, the location of geomorphic, cultural, and development features on-the-ground at the time the adjacent area was included within the CBRS (i.e., whether the CBRS boundary lines on the maps precisely follow the underlying features they were intended to follow on-the-ground).

The boundaries of System Units and OPAs have been modified where appropriate to add undeveloped fastland and associated aquatic habitat to the CBRS (either as additions to existing units or as entirely new units). Such additions to the CBRS are consistent with Section 4(c)(3) of the 2006 CBRRA which directs the Secretary to make recommendations for expansion of the CBRS. The unit type classification (i.e., System Unit versus OPA) was determined according to the protocol described below in the section entitled “CBRS Unit Type Classification.”

Additionally, the Service accommodates requests from landowners for voluntary additions to the CBRS or reclassifications of conservation/recreation areas from OPA to System Unit status. Voluntary additions to the CBRS can be made by the Service administratively (16 U.S.C. 3503(d)); however they are also incorporated into ongoing CBRS mapping efforts like this project for efficiency and cost-saving purposes.

Removals From the CBRS

In carrying out this project, the Service found areas that were inappropriately included within the CBRS and constitute technical mapping errors. When assessing whether an area may be appropriate for removal from the CBRS, the Service considered the following guiding principles:

(1) Whether the area may reasonably be considered to be a coastal barrier feature, or related to a coastal barrier ecosystem (this generally includes areas that are inherently vulnerable to coastal hazards such as flooding, storm surge, wind, erosion, and sea level rise); and

(2) whether inclusion of the area within the CBRS is rationally related to the purposes of the CBRA (i.e., to minimize the loss of human life, wasteful expenditure of Federal revenues, and damage to fish, wildlife, and other natural resources).

The Service considers a technical mapping error to be a mistake in the delineation of the CBRS boundaries that was made as a result of incorrect, outdated, or incomplete information (often stemming from inaccuracies on the original base maps). When assessing whether an area may be appropriate for removal, the Service also considers the following criteria:

(1) The level of development on-the-ground at the time the area was included within the CBRS (i.e., the number of structures or complement of infrastructure on-the-ground exceeded the threshold for the area to be considered undeveloped) (16 U.S.C. 3503(g)(1)); and/or

(2) the location of geomorphic, cultural, and development features on-the-ground at the time the area was included within the CBRS (i.e., the CBRS boundary lines on the maps do not precisely follow the underlying features they were intended to follow on-the-ground).

The boundaries of System Units and OPAs have been modified where appropriate to remove areas that were inappropriately included within the CBRS and constitute technical mapping errors.

Modifications to CBRS Boundaries in Channels

In carrying out this project, the Service noted that the CBRS unit boundaries following channels in some cases include the entire channel and in other cases include none of the channel within the unit. The boundaries of System Units and OPAs have been modified where appropriate to include the entire extent of the channel within the unit. In cases where a System Unit and an OPA share a coincident boundary that follows a channel located between the two units, the entire channel is generally included within the System Unit. In cases where two System Units or two OPAs fall within a channel, the coincident boundary is placed at the center of the channel. A buffer (of about 20 feet) has generally been applied along developed shorelines (i.e., where structures and/or infrastructure such as bulkheads and roads are very close to and run parallel to or are coincident with the shoreline) to ensure that existing development and infrastructure located on the shoreline is not inadvertently included within the CBRS.

CBRS Unit Type Classification

In carrying out this project, the Service considered the qualifying coastal barrier feature and delineated the unit boundaries in accordance with the protocols, criteria, and guiding principles identified above, regardless of whether the area is (or was previously) owned or managed for conservation and/or recreation. In other words, the boundaries of both System Units and OPAs were generally drawn using the same protocols, criteria, and guiding principles. The Service then determined the unit type classification (for proposed additions) and reclassification (for existing units) in accordance with the protocols below.

The unit type classification (i.e., System Unit versus OPA) is based on whether or not the unit was predominantly held for conservation and/or recreation at the time of designation, and has been modified where appropriate and practicable. Such unit type modifications for areas that are currently within the CBRS are referred to as “reclassifications.” The reclassified areas are either added to an existing adjacent unit of the same type or assigned a new unit number. The following considerations were applied for unit type classification and reclassification:

Areas not Held for Conservation/Recreation Within OPAs: Areas that are not held for conservation/recreation, but are: (1) Interspersed with and/or adjacent to a larger conservation/recreation area, and (2) located in coastal barrier areas that were undeveloped according to the CBRA's statutory development criteria (16 U.S.C. 3503(g)(1)) at the time they were included within the CBRS (or are currently undeveloped in the case of proposed additions), may be included within OPAs. Additionally, privately held inholdings (developed or undeveloped private tracts that are contained within the exterior boundaries of the conservation and/or recreation area) may also be included within OPAs.

Conservation/Recreation Areas Within System Units:

Held for Conservation/Recreation Prior to CBRS Designation

Areas that are held for conservation/recreation and are: (1) Interspersed with and/or adjacent to a larger area that is not held for conservation/recreation, and (2) were undeveloped according to the CBRA's statutory development criteria (16 U.S.C. 3503(g)(1)) at the time they were included within the CBRS (or are currently undeveloped in the case of proposed additions), may be included within System Units.

For conservation/recreation areas greater than 10 acres, the Service coordinated with the landowners (or managers) to seek their concurrence on inclusion of their area within the System Unit. If the owners do not concur with System Unit status, the Service classifies such areas as OPA to the extent practicable. However, minor conservation/recreation areas (i.e., fastland and wetlands smaller than 10 acres) and certain areas of open water would be impractical from a mapping perspective to delineate separately as an OPA and therefore may be included within System Units. Outreach was generally not conducted for these minor areas during the initial stakeholder outreach phase of the project (described in the Hurricane Sandy Remapping Project Methodology section above). Descriptions of such “minor” areas within System Units are included in the set of unit summaries that describe the Service's proposed changes to the CBRS. See the Availability of Proposed CBRS Boundaries and Related Information section below for information on where to access the unit summaries.

The Service's records indicate that some conservation/recreation areas were intentionally added to the CBRS as System Units in the past. The Service generally did not seek concurrence from conservation/recreation area owners (regardless of size) when there is evidence of such prior intent, including letters from the stakeholder in the Service's records indicating that the organization supported inclusion of the property within the System Unit in the past, or records of specific changes to the Department's recommended maps made by the Congressional committees that reviewed them prior to their enactment.

Held for Conservation/Recreation After Area Designated as CBRS

If an area is dedicated to conservation and/or recreation after its initial inclusion within a System Unit, it is generally not reclassified to an OPA.

Proposed Modifications to the CBRS

The Service has prepared draft revised boundaries that propose modifications to the CBRS in Delaware, Massachusetts, and New Jersey, as well as the designation of a new unit in New Hampshire. This first batch of the Hurricane Sandy Remapping Project includes a total of 148 CBRS units (112 existing units and 36 proposed new units) which are listed in Appendix A. The breakdown of units by state is as follows: 8 existing units and 3 proposed new units in Delaware, 86 existing units and 23 proposed new units in Massachusetts, 1 proposed new unit in New Hampshire, and 18 existing units and 9 proposed new units in New Jersey. Three of the existing units have no proposed changes. Ten of the 36 proposed new units are comprised either partially or mostly of areas that are currently contained within the CBRS, but are proposed for reclassification from System Unit to OPA or vice-versa. Twenty-six of the 36 proposed new units are comprised entirely of areas that are not currently contained within the CBRS. Nine of the existing 112 units are proposed for reclassification from System Unit to OPA or vice-versa, and therefore their current unit numbers are retired, resulting in 139 total proposed units.

If adopted by Congress, the proposed boundaries would remove 557 acres from the CBRS (371 acres of fastland and 186 acres of associated aquatic habitat) and add approximately 136,268 acres to the CBRS (6,051 acres of fastland and 130,217 acres of associated aquatic habitat). The proposed boundaries would remove 271 structures from the CBRS and add 199 structures to the CBRS. A summary of metrics associated with the proposed changes for each state is below. More detailed information regarding the specific proposed changes to each unit is available in a set of unit summaries. See the Availability of Proposed CBRS Boundaries and Related Information section below for information on where to access the unit summaries.

Delaware

The Service has prepared comprehensively revised proposed boundaries for 8 of the 10 existing CBRS units in Delaware. A final recommended map for the remaining two existing units (Units DE-07P and H01) was submitted to Congress in 2016 as part of the Service's Digital Mapping Pilot Project. One existing unit in Delaware has no proposed changes. The Service identified three proposed new units in Delaware, which are comprised entirely of areas that are not currently contained within the CBRS. There are 11 total proposed units in Delaware.

The proposed boundaries for Delaware would remove 113 acres from the CBRS (84 acres of fastland and 29 acres of associated aquatic habitat) and add approximately 31,216 acres to the CBRS (996 acres of fastland and 30,220 acres of associated aquatic habitat). The proposed boundaries would remove 41 structures from the CBRS and add approximately 10 structures to the CBRS.

Massachusetts

The Service has prepared comprehensively revised proposed boundaries for all of the 86 existing CBRS units in Massachusetts. Two existing units in Massachusetts have no proposed changes. The Service identified 23 proposed new units in Massachusetts. Nine of the 23 proposed new units in Massachusetts are comprised either partially or mostly of areas that are currently contained within the CBRS, but are proposed for reclassification from System Unit to OPA or vice-versa. Fourteen of the 23 proposed new units in Massachusetts are comprised entirely of areas that are not currently contained within the CBRS. Four of the existing 86 units are proposed for reclassification from System Unit to OPA or vice-versa, and therefore their current unit numbers are retired, resulting in 105 total proposed units.

The proposed boundaries for Massachusetts would remove 304 acres from the CBRS (162 acres of fastland and 142 acres of associated aquatic habitat) and add 32,881 acres to the CBRS (2,778 acres of fastland and 30,103 acres of associated aquatic habitat). The proposed boundaries would remove 168 structures from the CBRS and add 80 structures to the CBRS.

New Hampshire

There are currently no existing CBRS units in New Hampshire. The Service identified one proposed new unit in New Hampshire. The proposed boundaries for this unit would add 679 acres to the CBRS (121 acres of fastland and 558 acres of associated aquatic habitat). The proposed boundaries would add five structures to the CBRS (these structures are all park-related).

New Jersey

The Service has prepared comprehensively revised proposed boundaries for 18 of the 24 existing CBRS units in New Jersey. The map for the remaining six New Jersey units (Units NJ-02/NJ-02P, NJ-03P, NJ-04, NJ-15P, and NJ-16P) was comprehensively reviewed and revised by the Service and adopted by Congress in 2016. The Service identified nine proposed new units in New Jersey. One of the nine proposed new units is comprised mostly of areas that are currently contained within the CBRS, but are proposed for reclassification from System Unit to OPA or vice-versa. Eight of the nine proposed new units are comprised entirely of areas that are not currently contained within the CBRS. Five of the existing 18 units are proposed for reclassification from System Unit to OPA or vice-versa, and therefore their current unit numbers are retired, resulting in 22 total proposed units.

The proposed boundaries for New Jersey would remove 140 acres from the CBRS (125 acres of fastland and 15 acres of associated aquatic habitat) and add 71,492 acres to the CBRS (2,156 acres of fastland and 69,336 acres of associated aquatic habitat). The proposed boundaries remove 62 structures from the CBRS and add 104 structures to the CBRS.

Proposed Additions to the CBRS

The draft revised boundaries for Delaware, Massachusetts, and New Jersey, and the proposed new unit in New Hampshire, would make additions to the CBRS, including the creation of 36 new units that are consistent with a directive in section 4 of Public Law 109-226 concerning recommendations for expansion of the CBRS. The proposed boundaries are based upon the best data available to the Service at the time the areas were reviewed. Our assessment indicated that any new areas proposed for addition to the CBRS were relatively undeveloped at the time the proposed boundaries were created.

Section 2 of Public Law 106-514 requires that we consider the following criteria when assessing the development status of a potential addition to the CBRS: (1) Whether the density of development is less than one structure per 5 acres of land above mean high tide (which generally suggests eligibility for inclusion within the CBRS); and (2) whether there is existing infrastructure consisting of a road, with a reinforced road bed, to each lot or building site in the area; a wastewater disposal system sufficient to serve each lot or building site in the area; electric service for each lot or building site in the area; and a fresh water supply for each lot or building site in the area (which generally suggests ineligibility for inclusion within the CBRS).

If, upon review of the proposed boundaries, interested parties find that any areas proposed for addition to the CBRS are currently developed (according to the criteria codified by section 2 of Pub. L. 106-514), they may submit supporting documentation of such development to the Service during this public comment period. For any areas proposed for addition to the CBRS, we will consider the density of development and level of infrastructure on-the-ground as of the close of the comment period on the date listed in the DATES section.

Request for Comments

Section 4 of Public Law 109-226 requires the Secretary to provide an opportunity for the submission of public comments. We invite the public to review and comment on the proposed CBRS boundaries for the Delaware, Massachusetts, New Hampshire, and New Jersey units listed in Appendix A. The Service is specifically notifying the following stakeholders concerning the availability of the proposed boundaries: The Chair and Ranking Member of the House of Representatives Committee on Natural Resources; the Chair and Ranking Member of the Senate Committee on Environment and Public Works; the members of the Senate and House of Representatives for the affected areas; the Governors of Delaware, Massachusetts, New Hampshire, and New Jersey; organizations that own land held for conservation and/or recreation within the existing and proposed units (where such ownership information and mailing addresses were publicly available); and other appropriate Federal, State, and local officials, and nongovernmental organizations.

Interested parties may submit written comments and accompanying data as described in the ADDRESSES section. Comments regarding specific CBRS unit(s) should reference the appropriate unit number(s) and unit name(s) as listed in Appendix A. We must receive comments on or before the date listed in the DATES section.

Following the close of the comment period, we will review all comments received on the proposed boundaries and make adjustments to the boundaries, as appropriate, based on information received through public comments, updated aerial imagery, CBRA criteria, and objective mapping protocols. We will then prepare final recommended boundaries to be submitted to Congress. The final recommended boundaries will become effective only if they are adopted by Congress through legislation.

Availability of Proposed CBRS Boundaries and Related Information

In the past, the Service has produced static PDFs of draft maps depicting proposed changes to the CBRS. However, in an effort to reduce costs, increase efficiency, and provide a more user-friendly interface for the public to view the proposed changes, the Service has created an online “CBRS Projects Mapper” to display the proposed CBRS boundaries in lieu of static PDFs of the draft maps. The online mapper creates greater transparency in the public review process, allowing users to zoom in further and obtain more detailed information about the type of change that is proposed for a specific area (e.g., additions, removals, and reclassifications).

The CBRS Projects Mapper and unit summaries (containing historical changes and proposed changes to the individual units) can be accessed from the Service's website at http://www.fws.gov/cbra, or via http://www.regulations.gov. Public comments should be submitted at http://www.regulations.gov (see ADDRESSES). A shapefile of the proposed CBRS boundaries, which can be used with GIS software, is also available for download. The shapefile is best viewed using the base imagery to which the boundaries were drawn; the base imagery sources and dates are included in the metadata for the shapefile. The Service is not responsible for any misuse or misinterpretation of the shapefile.

Additionally, a stakeholder outreach toolkit (comprised of project fact sheets, flyers for the virtual public meetings, and other information about the project) will be made available to local officials upon request. Local officials may use this toolkit to increase awareness of the project and the virtual public meetings within the community. Local officials may contact the individual identified in the FOR FURTHER INFORMATION CONTACT section for further information regarding the toolkit.

Interested parties who are unable to access the proposed boundaries or other information online may contact the individual identified in the FOR FURTHER INFORMATION CONTACT section, and reasonable accommodations will be made.

Virtual Public Meetings

We will hold the following public meetings via webcast and teleconference only. The purpose of the meetings is to give the public an overview of the Hurricane Sandy Remapping Project and to offer an opportunity for questions and answers regarding the proposed changes to the CBRS units listed in Appendix A.

Date | Time (eastern time) | States
May 8, 2018 | 10 a.m.-12 p.m | Delaware and New Jersey.
May 9, 2018 | 10 a.m.-12 p.m | Massachusetts and New Hampshire.

Meeting Participation Information

These webcast meetings are open to the public. To ensure that enough call-in lines are available, we request that participants register by emailing CBRA@fws.gov by close of business on May 1, 2018. Registrants will be provided with instructions for participation via email. Members of the public requesting reasonable accommodations, such as interpretive services, should notify the person listed under FOR FURTHER INFORMATION CONTACT at least 1 week prior to the meeting.

Appendix A—Hurricane Sandy Remapping Project Units

Below are the affected units for each state, including unit number, unit name, county, and the status of the unit (i.e., existing unit, existing unit reclassified and unit number retired, and new unit).

State | County | Unit No. | Unit name | Unit status
Delaware | Kent | DE-01 | Little Creek | Existing Unit.
Delaware | Kent | DE-01P | Little Creek | Existing Unit.
Delaware | Sussex | DE-02P | Beach Plum Island | Existing Unit.
Delaware | Sussex | DE-03P | Cape Henlopen | Existing Unit.
Delaware | Sussex | DE-06 | Silver Lake | Existing Unit.
Delaware | Sussex | DE-08P | Fenwick Island | Existing Unit.
Delaware | Kent, New Castle | DE-09P | Woodland Beach | New Unit.
Delaware | Kent | DE-10 | Fraland Beach | New Unit.
Delaware | Kent | DE-11P | Bombay Hook | New Unit.
Delaware | Kent, Sussex | H00 | Broadkill Beach | Existing Unit.
Delaware | Kent, Sussex | H00P | Broadkill Beach | Existing Unit.
Massachusetts | Essex | C00 | Clark Pond | Existing Unit.
Massachusetts | Essex | C01 | Wingersheek | Existing Unit.
Massachusetts | Essex | C01A | Good Harbor Beach/Milk Island | Existing Unit.
Massachusetts | Essex | C01AP | Cape Hedge Beach | New Unit.
Massachusetts | Essex | C01B | Brace Cove | Existing Unit.
Massachusetts | Suffolk | C01C | West Head Beach | Existing Unit.
Massachusetts | Suffolk | C01CP | West Head Beach | New Unit.
Massachusetts | Plymouth | C02 | North Scituate | Existing Unit Reclassified and Unit Number Retired.
Massachusetts | Plymouth | C02P | North Scituate | New Unit—Partially Reclassified.
Massachusetts | Plymouth | C03 | Rivermoor | Existing Unit.
Massachusetts | Plymouth | C03A | Rexhame | Existing Unit.
Massachusetts | Plymouth | C04 | Plymouth Bay | Existing Unit.
Massachusetts | Plymouth | C06 | Center Hill Complex | Existing Unit.
Massachusetts | Barnstable | C08 | Scorton | Existing Unit.
Massachusetts | Barnstable | C09 | Sandy Neck | Existing Unit.
Massachusetts | Barnstable | C09P | Sandy Neck | Existing Unit.
Massachusetts | Barnstable | C10 | Freemans Pond | Existing Unit.
Massachusetts | Barnstable | C11 | Namskaket Spits | Existing Unit.
Massachusetts | Barnstable | C11A | Boat Meadow | Existing Unit.
Massachusetts | Barnstable | C11AP | Boat Meadow | Existing Unit.
Massachusetts | Barnstable | C11P | Namskaket Spits | New Unit.
Massachusetts | Barnstable | C12 | Chatham Roads | Existing Unit.
Massachusetts | Barnstable | C12P | Chatham Roads | New Unit—Mostly Reclassified.
Massachusetts | Barnstable | C13 | Lewis Bay | Existing Unit.
Massachusetts | Barnstable | C13P | Lewis Bay | Existing Unit.
Massachusetts | Barnstable | C14 | Squaw Island | Existing Unit.
Massachusetts | Barnstable | C15 | Centerville | Existing Unit.
Massachusetts | Barnstable | C15P | Centerville | Existing Unit.
Massachusetts | Barnstable | C16 | Dead Neck | Existing Unit.
Massachusetts | Barnstable | C17 | Popponesset Spit | Existing Unit.
Massachusetts | Barnstable | C18 | Waquoit Bay | Existing Unit.
Massachusetts | Barnstable | C18A | Falmouth Ponds | Existing Unit.
Massachusetts | Barnstable | C18P | Waquoit Bay | Existing Unit Reclassified and Unit Number Retired.
Massachusetts | Barnstable | C19 | Black Beach | Existing Unit.
Massachusetts | Plymouth | C19A | Buzzards Bay Complex | Existing Unit.
Massachusetts | Plymouth | C19AP | Buzzards Bay Complex | New Unit—Mostly Reclassified.
Massachusetts | Barnstable | C19P | Little Sippewisset Marsh | New Unit.
Massachusetts | Nantucket | C20 | Coatue | Existing Unit.
Massachusetts | Nantucket | C20P | Coatue | New Unit—Mostly Reclassified
Massachusetts | Nantucket | C21 | Sesachacha Pond | Existing Unit.
Massachusetts | Nantucket | C22 | Cisco Beach | Existing Unit Reclassified and Unit Number Retired.
Massachusetts | Nantucket | C22P | Cisco Beach | New Unit—Mostly Reclassified.
Massachusetts | Nantucket | C23 | Esther Island Complex | Existing Unit.
Massachusetts | Nantucket | C23P | Esther Island Complex | New Unit—Mostly Reclassified.
Massachusetts | Nantucket | C24 | Tuckernuck Island | Existing Unit.
Massachusetts | Nantucket | C25 | Muskeget Island | Existing Unit.
Massachusetts | Dukes | C26 | Eel Pond Beach | Existing Unit.
Massachusetts | Dukes | C27 | Cape Poge | Existing Unit.
Massachusetts | Dukes | C28 | South Beach | Existing Unit.
Massachusetts | Dukes | C29 | Squibnocket Complex | Existing Unit.
Massachusetts | Dukes | C29A | James Pond | Existing Unit.
Massachusetts | Dukes | C29B | Mink Meadows | Existing Unit.
Massachusetts | Dukes | C29P | Squibnocket Complex | Existing Unit.
Massachusetts | Dukes | C31 | Elizabeth Islands | Existing Unit.
Massachusetts | Bristol | C31A | West Sconticut Neck | Existing Unit.
Massachusetts | Bristol | C31AP | West Sconticut Neck | New Unit.
Massachusetts | Bristol | C31B | Harbor View | Existing Unit.
Massachusetts | Bristol | C32 | Mishaum Point | Existing Unit.
Massachusetts | Bristol | C33 | Little Beach | Existing Unit.
Massachusetts | Bristol | C34 | Horseneck Beach | Existing Unit.
Massachusetts | Bristol | C34A | Cedar Cove | Existing Unit.
Massachusetts | Bristol | C34P | Horseneck Beach | Existing Unit.
Massachusetts | Bristol | C35 | Richmond/Cockeast Ponds | Existing Unit.
Massachusetts | Essex | MA-01P | Salisbury Beach | Existing Unit.
Massachusetts | Essex | MA-02P | Plum Island | Existing Unit.
Massachusetts | Essex | MA-03 | Castle Neck | Existing Unit.
Massachusetts | Essex | MA-04 | West Beach | Existing Unit.
Massachusetts | Essex | MA-06 | Phillips Beach | Existing Unit.
Massachusetts | Suffolk | MA-08P | Snake Island | Existing Unit.
Massachusetts | Norfolk | MA-09P | Squantum | Existing Unit.
Massachusetts | Norfolk | MA-10P | Merrymount Park | Existing Unit.
Massachusetts | Plymouth, Suffolk | MA-11 | Peddocks/Rainsford Islands | Existing Unit.
Massachusetts | Norfolk, Plymouth | MA-12 | Cohasset Harbor | Existing Unit.
Massachusetts | Plymouth | MA-13 | Duxbury Beach | Existing Unit.
Massachusetts | Plymouth | MA-13P | Duxbury Beach | New Unit—Mostly Reclassified.
Massachusetts | Barnstable | MA-14P | Town Neck | Existing Unit.
Massachusetts | Barnstable | MA-15P | Chapin Beach | Existing Unit.
Massachusetts | Barnstable | MA-16 | Nobscusset | Existing Unit.
Massachusetts | Barnstable | MA-17AP | Lieutenant Island | Existing Unit.
Massachusetts | Barnstable | MA-17P | Griffin/Great Islands Complex | Existing Unit
Massachusetts | Barnstable | MA-18 | Pamet Harbor | Existing Unit Reclassified and Unit Number Retired.
Massachusetts | Barnstable | MA-18AP | Pamet Harbor | New Unit—Mostly Reclassified.
Massachusetts | Barnstable | MA-18P | Ballston Beach | Existing Unit.
Massachusetts | Barnstable | MA-19P | Provincetown | Existing Unit.
Massachusetts | Barnstable | MA-20P | Nauset Beach/Monomoy | Existing Unit.
Massachusetts | Barnstable | MA-23P | Davis Beach | Existing Unit.
Massachusetts | Dukes | MA-24 | Naushon Island Complex | Existing Unit.
Massachusetts | Dukes | MA-25P | Penikese Island | Existing Unit.
Massachusetts | Dukes | MA-26 | Harthaven | Existing Unit.
Massachusetts | Dukes | MA-27 | Edgartown Beach | New Unit—Partially Reclassified.
Massachusetts | Dukes | MA-27P | Edgartown Beach | Existing Unit.
Massachusetts | Dukes | MA-28P | Norton Point | Existing Unit.
Massachusetts | Dukes | MA-29P | Nomans Land | Existing Unit.
Massachusetts | Barnstable | MA-30 | Herring Brook | Existing Unit.
Massachusetts | Barnstable | MA-31 | Squeteague Harbor | Existing Unit.
Massachusetts | Barnstable | MA-32 | Bassetts Island | Existing Unit.
Massachusetts | Barnstable | MA-33 | Phinneys Harbor | Existing Unit.
Massachusetts | Plymouth | MA-35 | Planting Island | Existing Unit.
Massachusetts | Bristol | MA-36 | Round Hill | Existing Unit.
Massachusetts | Bristol | MA-37P | Demarest Lloyd Park | Existing Unit.
Massachusetts | Barnstable | MA-38P | Scusset Beach | New Unit.
Massachusetts | Barnstable | MA-40P | Harding Beach | New Unit.
Massachusetts | Barnstable | MA-41P | Red River Beach | New Unit.
Massachusetts | Barnstable | MA-42P | Quissett Beach/Falmouth Beach | New Unit.
Massachusetts | Barnstable | MA-43 | Chapoquoit Beach | New Unit.
Massachusetts | Barnstable | MA-43P | Chapoquoit Beach | New Unit.
Massachusetts | Bristol | MA-45P | Round Hill Point | New Unit.
Massachusetts | Bristol | MA-46 | Teal Pond | New Unit.
Massachusetts | Bristol, Plymouth | MA-47P | Little Bay | New Unit.
New Hampshire | Rockingham | NH-01P | Odiorne Point | New Unit.
New Jersey | Monmouth | NJ-01P | Sandy Hook | Existing Unit.
New Jersey | Monmouth | NJ-04A | Navesink/Shrewsbury Complex | Existing Unit.
New Jersey | Ocean | NJ-04B | Metedeconk Neck | Existing Unit.
New Jersey | Ocean | NJ-04BP | Metedeconk Neck | Existing Unit Reclassified and Unit Number Retired.
New Jersey | Ocean | NJ-05P | Island Beach | Existing Unit.
New Jersey | Ocean | NJ-06 | Cedar Bonnet Island | Existing Unit.
New Jersey | Ocean | NJ-06P | Cedar Bonnet Island | Existing Unit Reclassified and Unit Number Retired.
New Jersey | Atlantic, Burlington, Ocean | NJ-07P | Brigantine | Existing Unit.
New Jersey | Cape May | NJ-08 | Corson's Inlet | New Unit—Mostly Reclassified.
New Jersey | Cape May | NJ-08P | Corson's Inlet | Existing Unit.
New Jersey | Cape May | NJ-09 | Stone Harbor | Existing Unit.
New Jersey | Cape May | NJ-09P | Stone Harbor | Existing Unit Reclassified and Unit Number Retired.
New Jersey | Cape May | NJ-10P | Cape May | Existing Unit.
New Jersey | Cape May | NJ-11P | Higbee Beach | Existing Unit.
New Jersey | Cape May | NJ-12 | Del Haven | Existing Unit.
New Jersey | Cape May | NJ-12P | Del Haven | Existing Unit Reclassified and Unit Number Retired.
New Jersey | Cape May | NJ-13 | Kimbles Beach | Existing Unit.
New Jersey | Cape May, Cumberland | NJ-14 | Moores Beach | Existing Unit.
New Jersey | Cape May, Cumberland | NJ-14P | Moores Beach | Existing Unit Reclassified and Unit Number Retired.
New Jersey | Monmouth | NJ-17P | Monmouth Cove | New Unit.
New Jersey | Monmouth | NJ-18 | Ware Creek | New Unit.
New Jersey | Atlantic, Cape May | NJ-19P | Malibu Beach | New Unit.
New Jersey | Cape May | NJ-20P | Two Mile Beach | New Unit.
New Jersey | Cape May | NJ-21P | Sunray Beach | New Unit.
New Jersey | Cumberland | NJ-22P | Egg Island | New Unit.
New Jersey | Cumberland | NJ-23P | Dix | New Unit.
New Jersey | Cumberland, Salem | NJ-24P | Greenwich | New Unit.

Dated: December 4, 2017.
Gary Frazer,
Assistant Director for Ecological Services.

Editorial Note: This document was received for publication by the Office of the Federal Register on March 7, 2018.

[FR Doc. 2018-04889 Filed 3-9-18; 8:45 am]

BILLING CODE 4333-15-P